DEPARTMENT OF HEALTH AND HUMAN SERVICES

Administration for Children and Families

Submission for OMB Review; Comment Request

Title: Phase II Evaluation Activities for Implementing a Next Generation Evaluation Agenda for the Chafee Foster Care Independence Program.

OMB No.: New Collection.

Description: The Administration for Children and Families (ACF), Office of Planning Research and Evaluation (OPRE) is proposing an information collection activity as part of the Phase II Evaluation Activities for Implementing a Next Generation Evaluation Agenda for the Chafee Foster Care Independence Program. The proposed information collection consists of site visits by staff from the Urban Institute and Chapin Hall at the University of Chicago to conduct formative evaluations of programs serving transition-age foster youth. The evaluations will include preliminary visits to discuss the evaluation process with program administrators. Then, the research team will conduct site visits to each program to speak with program leaders, partners and key stakeholders, front-line staff, and participants. These formative evaluations will determine programs' readiness for more rigorous evaluation in the future. The activities and products from this project will help ACF to fulfill their ongoing legislative mandate for program evaluation specified in the Foster Care Independence Act of 1999.

Respondents: Program leaders, partners and stakeholders, and frontline staff as well as young adults being served by the programs.

Annual Burden Estimates
Instrument | Total number of respondents | Annual number of respondents | Number of responses per respondent | Average burden hours per response | Annual burden hours
Outreach email for discussion with program admin and staff | 16 | 8 | 1 | 1 | 8
Outreach email for Focus Group Recruiters | 16 | 8 | 1 | 8 | 64
Informed Consent and Discussion Guide for program leaders | 48 | 24 | 4 | 1 | 96
Informed Consent and Discussion Guide for program partners and stakeholders | 80 | 40 | 2 | 1 | 80
Informed Consent and Discussion Guide for program front-line staff | 128 | 64 | 1 | 1 | 64
Informed Consent and Focus Group Guide for program participants | 200 | 100 | 1 | 2 | 200
Compilation and Submission of Administrative Data | 24 | 12 | 2 | 12 | 288

Estimated Total Annual Burden Hours: 800.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Certifying Officer.

[FR Doc. 2016-17618 Filed 7-25-16; 8:45 am]

BILLING CODE 4184-01-P